DEPARTMENT OF COMMERCE

National Oceanic and Atmospheric Administration

50 CFR Part 253

RIN 0648-BC68

Designation of a Nonessential Experimental Population of Central Valley Spring-Run Chinook Salmon Below Friant Dam in the San Joaquin River, CA

AGENCY: National Marine Fisheries Service (NMFS), National Oceanic and Atmospheric Administration (NOAA), Commerce.

ACTION: Notice of public meetings; correction.

SUMMARY: On January 16, 2013, we, NMFS, published a proposed rule to designate a nonessential experimental population of Central Valley spring-run Chinook salmon under section 10(j) of the Endangered Species Act in portions of the San Joaquin River and a notice of availability for the draft environmental assessment associated with this action. The proposed rule contained incorrect dates for two of our meetings. We announce new dates for public meetings on this action.

DATES: The first meeting will be in Fresno, CA on January 29, 2013, at the Fresno Metropolitan Flood Control District, Board Meeting Room, 5469 E. Olive Avenue from 5:30 p.m. to 7:30 p.m. (The public should park in the front parking area (rear parking area closes at 5:30 p.m. with no exit after that time) and enter the door located on the west side of the front building). The second meeting will be in Los Banos, CA on January 30, 2013, at the Los Banos Community Center, 645 7th Street from 2 p.m. to 4 p.m. The third meeting will be in Chico, CA on February 5, 2013, at the Chico Masonic Family Center, 1110 West East Avenue from 5:30 p.m. to 7:30 p.m.

ADDRESSES: You may submit comments on this proposed rule, identified by NOAA-NMFS-2012-0221 by any of the following methods:

• Electronic submissions: Submit all electronic public comments via the Federal e-Rulemaking Portal. Go to http://www.regulations.gov/#!docketDetail;D=NOAA-NMFS-2012-0221, click the “Comment Now!” icon, complete the required fields, and enter or attach your comments.

• Mail: Submit written comments to Elif Fehm-Sullivan, Fisheries Biologist, Protected Resources Division, Southwest Region, National Marine Fisheries Service, 650 Capitol Mall, Suite 5-100, Sacramento, CA 95814.

• Fax: (916) 930-3629.

• Email: SJRspring.salmon@noaa.gov.

Instructions: Comments sent by any other method, to any other address or individual, or received after the end of the comment period, may not be considered by NMFS. All comments received are part of the public record and will generally be posted to http://www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only. You may access a copy of the draft EA by one of the following:

• Visit NMFS' Reintroduction Web site at http://swr.nmfs.noaa.gov/sjrrestorationprogram/salmonreintroduction.htm.

• Call (916) 930-3723 and request to have a CD or hard copy mailed to you.

• Obtain a CD or hard copy by visiting NMFS' Central Valley office at 650 Capitol Mall, Suite 5-100, Sacramento, CA 95814.

Please see the draft EA for additional information to comment on that document.

FOR FURTHER INFORMATION CONTACT: Elif Fehm-Sullivan, National Marine Fisheries Service, 650 Capitol Mall, Suite 5-100, Sacramento, CA 95814 (916-930-3723) or Dwayne Meadows, NMFS, 1315 East-West Highway, Silver Spring, MD 20910 (301-427-8403).

SUPPLEMENTARY INFORMATION:

Background

On January 16, 2013 we, NMFS, published a proposed rule (78 FR 3381) to designate a nonessential experimental population of Central Valley spring-run Chinook salmon under section 10(j) of the Endangered Species Act in portions of the San Joaquin River and a notice of availability for the draft environmental assessment associated with this action. The proposed rule contained incorrect dates for two of our meetings. Three public meetings will be held at which the public can make comments on the draft EA and proposed rule.

Public Meetings

The first meeting will be in Fresno, CA on January 29, 2013, at the Fresno Metropolitan Flood Control District, Board Meeting Room, 5469 E. Olive Avenue from 5:30 p.m. to 7:30 p.m. (The public should park in the front parking area (rear parking area closes at 5:30 p.m. with no exit after that time) and enter the door located on the west side of the front building). The second meeting will be in Los Banos, CA on January 30, 2013, at the Los Banos Community Center, 645 7th Street from 2 p.m. to 4 p.m. The third meeting will be in Chico, CA on February 5, 2013, at the Chico Masonic Family Center, 1110 West East Avenue from 5:30 p.m. to 7:30 p.m.

Authority: 16 U.S.C. 1533 et seq.

Dated: January 16, 2013.
Helen Golde,
Acting Director, Office of Protected Resources, National Marine Fisheries Service.

[FR Doc. 2013-01343 Filed 1-23-13; 8:45 am]

BILLING CODE 3510-22-P